DEPARTMENT OF STATE

[Public Notice: 10945]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: As shown on each of the 91 letters.

FOR FURTHER INFORMATION CONTACT: Ms. Paula C. Harrison, Directorate of Defense Trade Controls, Department of State, telephone (202) 663-3310; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

Nov 30, 2018

The Honorable Paul D. Ryan, Speaker of the House of Representatives.

Dear Mr. Speaker:

Pursuant to Sections 36(c) and (d) of the Arms Export Control Act, the Department of State is transmitting certification of a proposed license for export for the manufacture of significant military equipment abroad and the export of defense articles, including technical data and defense services, in the amount of $50,000,000 or more.

The transaction contained in the attached certification involves the export of defense articles, including technical data and defense services, to the United Kingdom to support the design, manufacture, integration, installation, operation, training, testing, maintenance, repair, marketing, and sale of the Brimstone Weapon System.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 16-087.

Nov 30, 2018

The Honorable Paul D. Ryan, Speaker of the House of Representatives.

Dear Mr. Speaker:

Pursuant to Section 36(c) and (d) of the Arms Export Control Act, the Department of State is transmitting certification of a proposed license for the manufacture of significant military equipment abroad and the export of defense articles, including technical data and defense services, in the amount of $1,000,000 or more.

The transaction contained in the attached certification involves the export of defense articles, including technical data and defense services, to the Philippines to support the manufacture, integration, installation, operation, testing, maintenance, and report of 22 TCM and 22 TCM 9R ammunition cartridges.

The U.S. government is prepared to license the export of these items having taken into account political, military, economic, human rights, and arms control considerations.

More detailed information is contained in the formal certification, which though unclassified, contains business information submitted to the Department of State by the applicant, publication of which could cause competitive harm to the United States firm concerned.

Sincerely,

Mary Elizabeth Taylor,

Assistant Secretary Bureau of Legislative Affairs.

Enclosure: Transmittal No. DDTC 17-096.

Nov 30, 2018

Honorable Paul D. Ryan, Speaker of the House of Representatives.

Dear Mr. Speaker:

Pursuant to Section 36(c) and (d) of the Arms Export Control Act, the Department of State is transmitting certification of a proposed license for the manufacture of significant military equipment abroad and the export of defense articles, including technical data, and defense services in the amount of $100,000,000 or more.

The transaction contained in the attached certification involves the export of defense articles, including technical data, and defense services, to support the design, development, production, manufacture, assembly, operation, repair, testing, inspection, maintenance, modification and upgrades of the Evolved Sea Sparrow Missile (ESSM) Block 1.

The U.S. government is prepared to license the export of these items having taken into account political, military, economic, human rights, and arms control considerations.

More detailed information is contained in the formal certification, which though unclassified, contains business information submitted to the Department of State by the applicant, publication of which could cause competitive harm to the United States firm concerned.

Sincerely,

Mary Elizabeth Taylor, Assistant Secretary Bureau of Legislative Affairs.

Enclosure: Transmittal No. DDTC 17-135.

Oct 15, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Mexico to support the assembly and testing of certain F107-WR-105 engine assemblies.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-002.

Dec 03, 2018

The Honorable Paul D. Ryan, Speaker of the House of Representatives.

Dear Mr. Speaker:

Pursuant to Section 36(c) of the Arms Export Control Act, the Department of State is transmitting certification of a proposed license amendment for the export of defense articles, including technical data, and defense services, in the amount of $50,000,000 or more.

The transaction contained in the attached certification involves the export of defense articles, technical data, and defense services to Saudi Arabia for the support of integration, installation, operation, training, testing, maintenance, and repair of the Patriot Air Defense System (Configuration 3), including upgrade to the Patriot Guidance Enhanced Missile-Tactical (GEM-T).

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-014.

Nov 02, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Kuwait, Germany, Italy, Spain and the UK to support the integration of the SNIPER Advanced Targeting Pod (ATP) on the Eurofighter Typhoon aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-018.

Oct 16, 2018

The Honorable Paul D. Ryan, Speaker of the House of Representatives.

Dear Mr. Speaker:

Pursuant to Section 36(c) of the Arms Export Control Act, we are transmitting certification of a proposed license for the export of firearms, parts, and components abroad controlled under Category I of the U.S. Munitions List in the amount of $1,000,000 or more.

The transaction contained in the attached certification involves the export to Israel of 5.56mm automatic rifles and major components to the Israeli MOD. The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Assistant Secretary Legislative Affairs.

Enclosure: Transmittal No. DDTC 18-023.

Nov 6, 2018

The Honorable Paul D. Ryan, Speaker of the House of Representatives.

Dear Mr. Speaker:

Pursuant to Section 36(c) of the Arms Export Control Act, Department of State is transmitting certification of a proposed license for the export of defense articles, including technical data, and defense services in the amount of $100,000,000 or more.

The transaction contained in the attached certification involves the export of defense articles, including technical data, and defense services to Israel to support the manufacture of Joint Strike Fighter Outer Wing Box assemblies.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-025.

Oct 15, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Canada, the UK, and France for the manufacture of F/A-18A-F and derivative aircraft landing gear assemblies, sub-assemblies, parts, and components.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-026.

Oct 16, 2018

The Honorable Paul D. Ryan, Speaker of the House of Representatives.

Dear Mr. Speaker:

Pursuant to Section 36(c) and (d) of the Arms Export Control Act, we are transmitting certification of a proposed license for the export for the manufacture of significant military equipment abroad and the export of defense articles, including technical data, and defense services in the amount of $100,000,000 or more.

The transaction contained in the attached certification involves the export of defense articles, including technical data, and defense services to the Republic of Korea to support the manufacture, assembly, test, integration, operation, maintenance, and repair of the AN/ARC-223A and AN/ARC-164A Radio Systems and associated equipment.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-027.

Nov 06, 2018

The Honorable Paul D. Ryan, Speaker of the House of Representatives.

Dear Mr. Speaker:

Pursuant to Section 36(c) of the Arms Export Control Act, the Department of State is transmitting certification of a proposed license for the export of defense articles, including technical data, defense services in the amount of $100,000,000 or more.

The transaction contained in the attached certification involves the export of defense articles, including technical data and defense services to Israel to support the performance of maintenance, repair and overhaul services of J52 and F100 engines to maintain readiness of the Israeli Air Force's fleet of A-4, F-15 and F-16 aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-032.

Oct 9, 2018

The Honorable Paul D. Ryan, Speaker of the House of Representatives.

Dear Mr. Speaker:

Pursuant to Section 36(c) of the Arms Export Control Act, we are transmitting certification of a proposed license for export of defense articles, including technical data, defense services in the amount of $50,000,000 or more.

The transaction contained in the attached certification involves the export of defense articles and technical data to Sweden and the Netherlands to support the installation, testing, maintenance, and repair of 35/50mm automatic chain guns for end use by the Netherlands Ministry of Defense.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-033.

Nov 02, 2018

The Honorable Paul D. Ryan, Speaker of the House of Representatives.

Dear Mr. Speaker:

Pursuant to Section 36(c) of the Arms Export Control Act, we are transmitting certification of a proposed license for the export of firearms abroad controlled under Category I of the United States Munitions List in amount of $1,000,000 or more.

The transaction contained in the attached certification involves the export of 7.62mm fully automatic machine guns and spare barrels to Brazil for end use by the Brazilian Army.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-034.

Nov 02, 2018

The Honorable Paul D. Ryan, Speaker of the House of Representatives.

Dear Mr. Speaker:

Pursuant to Section 36(c) of the Arms Export Control Act, we are transmitting certification of a proposed license for the export of firearms abroad controlled under Category I of the U.S. Munitions List in the amount of $1,000,000 or more.

The transaction contained in the attached certification involves the export of 5.56mm automatic rifles to Israel for government end-use.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-040.

Nov 30, 2018

The Honorable Paul D. Ryan, Speaker of the House of Representatives.

Dear Mr. Speaker:

Pursuant to Section 36(c) of the Arms Export Control Act, the Department of State is transmitting certification of a proposed license for the export of firearms, parts, and components abroad controlled under Category I of the U.S. Munitions List in the amount of $1,000,000 or more.

The transaction contained in the attached certification involves the export of semi-automatic rifles, pistols and bolt-action rifles to Peru for commercial resale.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-041.

Nov 06, 2018

The Honorable Paul D. Ryan, Speaker of the House of Representatives.

Dear Mr. Speaker:

Pursuant to Section 36(c) of the Arms Export Control Act, the Department of State is transmitting certification of a proposed license for the export of firearms, parts, and components abroad controlled under Category I of the United States Munitions List in the amount of $1,000,000 or more.

The transaction contained in the attached certification involves the export of rifles and pistols to Peru for commercial resale.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-042.

Oct 5, 2018

The Honorable Paul D. Ryan, Speaker of the House of Representatives.

Dear Mr. Speaker:

Pursuant to Section 36(c) of the Arms Export Control Act, we are transmitting certification of a proposed license for the export of defense articles, including technical data, and defense services in the amount of $50,000,000 or more.

The transaction contained in the attached certification involves the export of defense articles, including technical data, and defense services to Malaysia to support the transfer of six MD530G Scout/Attack helicopters, one MD530G Flight Training device, and MD530G training to Malaysian Army.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-044.

Dec 21, 2018

The Honorable Paul D. Ryan, Speaker of the House of Representatives.

Dear Mr. Speaker:

Pursuant to Section 36(d) of the Arms Export Control Act, the Department of State is transmitting certification of a proposed license for the export of defense articles, including technical data and defense services, for the manufacture of significant military equipment abroad.

The transaction contained in the attached certification involves the export of defense articles, including technical data and defense services, to Taiwan to support the manufacture of the AR-1500 International 1-Channel Airborne Radio.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-046.

Oct 15, 2018

The Honorable Paul D. Ryan, Speaker of the House of Representatives.

Dear Mr. Speaker:

Pursuant to Section 36(d) of the Arms Export Control Act, we are transmitting certification of a proposed license for the export of defense articles, including technical data, and defense services for the manufacture of significant military equipment abroad.

The transaction contained in the attached certification involves the export of defense articles, including technical data, and defense services to Japan to manufacture AN/ARC-182(V) VHF/UHF AM/FM radio sets.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Assistant Secretary Legislative Affairs.

Enclosure: Transmittal No. DDTC 18-047.

Oct 16, 2018

The Honorable Paul D. Ryan, Speaker of the House of Representatives.

Dear Mr. Speaker:

Pursuant to Section 36(c) of the Arms Export Control Act, we are transmitting certification of a proposed license for the export of defense articles, to include technical data, and defense services in the amount of $50,000,000 or more.

The transaction contained in the attached certification involves the transfer of defense articles, to include technical data, and defense services to support the Proton integration and launch of the Eutelsat 5 West B (E5WB) Commercial Communication Satellite and the Mission Extension Vehicle-1 (MEV-1) from the Baikonur Cosmodrome in Kazakhstan.

The U.S. government is prepared to license the export of these items having taken into account political, military, economic, human rights, and arms control considerations.

More detailed information is contained in the formal certification, which though unclassified, contains business information submitted to the Department of State by the applicant, publication of which could cause competitive harm to the U.S. firm concerned.

Sincerely,

Charles S. Faulkner, Acting Assistant Secretary Legislative Affairs.

Enclosure: Transmittal No. DDTC 18-048.

Nov 02, 2018

The Honorable Paul D. Ryan, Speaker of the House of Representatives.

Dear Mr. Speaker:

Pursuant to Section 36(c) of the Arms Export Control Act, we are transmitting certification of a proposed license for the export of defense articles, including technical data, and defense services in the amount of $100,000,000 or more.

The transaction contained in the attached certification involves the export of defense articles, including technical data, and defense services to Japan to support the upgrades of the Japan E-767 Airborne Warning and Control System fleet.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-049.

Nov 30, 2018

The Honorable Paul D. Ryan, Speaker of the House of Representatives.

Dear Mr. Speaker:

Pursuant to Section 36(c) of the Arms Export Control Act, the Department if State is transmitting certification of a proposed license amendment for the export of defense articles, including technical data, defense services in the amount of $100,000,000 or more.

The transaction contained in the attached certification involves the export of defense articles, including technical data and defense services, to the Netherlands, Italy, Japan, and the UK to support the delivery, manufacture, and testing of conventional edge control surfaces for the F-35 Joint Strike Fighter program.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-052.

Dec 21, 2018

The Honorable Paul D. Ryan, Speaker of the House of Representatives.

Dear Mr. Speaker:

Pursuant to Section 36(c) of the Arms Export Control Act, the Department of State is transmitting certification of a proposed license amendment for the export of defense articles, including technical data and defense services, in the amount of $100,000,000 or more.

The transaction contained in the attached certification involves the export of defense articles, including technical data and defense services, to Belgium support the design, development, integration and installation for the North Atlantic Treaty Organization (NATO) Alliance Ground Surveillance (AGS) program.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-055.

Nov 13, 2018

The Honorable Paul D. Ryan, Speaker of the House of Representatives.

Dear Mr. Speaker:

Pursuant to Section 36(c) of the Arms Export Control Act, the Department of State is transmitting certification of a proposed license amendment for the export of defense articles, including technical data and defense services, in the amount of $100,000,000 or more.

The transaction contained in the attached certification involves the export of defense articles, including technical data and defense services, to Japan to support the development, integration, and support for Assault Amphibious Vehicles Reliability, Availability, Maintenance/Rebuild to Standard (AAV7A1 RAM/RS) vehicles.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-058.

Nov 6, 2018

The Honorable Paul D. Ryan, Speaker of the House of Representatives.

Dear Mr. Speaker:

Pursuant to Section 36(c) of the Arms Export Control Act, the Department of State is transmitting certification of a proposed license for the export of firearms parts and components abroad controlled under Category I of the U.S. Munitions List in the amount of $1,000,000 or more.

The transaction contained in the attached certification involves the export of 120mm main gun sub-caliber devices to Oman for the Omani Ministry of Defense.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-059.

Nov 30, 2018

The Honorable Paul D. Ryan, Speaker of the House of Representatives.

Dear Mr. Speaker:

Pursuant to Section 36(c) of the Arms Export Control Act, the Department of State is transmitting certification of a proposed license for the export of firearms, parts, and components abroad controlled under Category I of the U.S. Munitions List in the amount of $1,000,000 or more.

The transaction contained in the attached certification involves the export to New Zealand of bolt-action rifles, components, and sound suppressors for use by the New Zealand Defence Force.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-060.

Dec 21, 2018

The Honorable Paul D. Ryan, Speaker of the House of Representatives.

Dear Mr. Speaker:

Pursuant to Section 36(c) of the Arms Export Control Act, the Department of State is transmitting certification of a proposed license for the export of firearms abroad controlled under Category I of the U.S. Munitions List in the amount of $1,000,000 or more.

The transaction contained in the attached certification involves the export of fully automatic 5.56mm rifles to Qatar for use by their Internal Security Force.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-061.

Dec 20, 2018

The Honorable Paul D. Ryan, Speaker of the House of Representatives.

Dear Mr. Speaker:

Pursuant to Section 36(c) of the Arms Export Control Act, the Department of State is transmitting certification of a proposed license for the export of defense articles, including technical data and defense services, in the amount of $100,000,000 or more.

The transaction contained in the attached certification involves the export of defense articles, including technical data and defense services, to Japan to support the integration, installation, operation, training, testing, maintenance, and repair of the IBIS III System.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-063.

Dec 21, 2018

The Honorable Paul D. Ryan, Speaker of the House of Representatives.

Dear Mr. Speaker:

Pursuant to Section 36(c) of the Arms Export Control Act, the Department of State is transmitting certification of a proposed license amendment for the export of defense articles, including technical data and defense services, in the amount of $50,000,000 or more.

The transaction contained in the attached certification involves the export of defense articles, including technical data and defense services, to Switzerland and the UK to support the integration, installation, upgrade, operation, training, testing, maintenance, and repair of the F/A 18 Tactical Operational Flight Trainer (TOFT).

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-064.

Nov 30, 2019

The Honorable Paul D. Ryan, Speaker of the House of Representatives.

Dear Mr. Speaker:

Pursuant to Section 36(c) of the Arms Export Control Act, the Department of State is transmitting certification of a proposed license for the export of firearms, parts, and components abroad controlled under Category I of the U.S. Munitions List in the amount of $1,000,000 or more.

The transaction contained in the attached certification involves the export of rifles, flash hiders and rifle major component parts to Canada for commercial resale.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-071.

Dec 21, 2018

The Honorable Paul D. Ryan, Speaker of the House of Representatives.

Dear Mr. Speaker:

Pursuant to Sections 36(c) and (d) of the Arms Export Control Act, the Department of State is transmitting certification of a proposed license for the manufacture of significant military equipment abroad and the export of firearm parts and components, including technical data and defense services, abroad controlled under Category I of the U.S. Munitions List in the amount of $1,000,000 or more.

The transaction contained in the attached certification involves the export of defense articles, including technical data and defense services, to Italy and Qatar to support the manufacture, integration, assembly, operation, training, testing, and maintenance, of 5.56mm upper receivers.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-073.

Nov 30, 2019

The Honorable Paul D. Ryan, Speaker of the House of Representatives.

Dear Mr. Speaker:

Pursuant to Section 36(c) of the Arms Export Control Act, the Department of State is transmitting certification of a proposed license for the export of firearms abroad controlled under Category I of the U.S. Munitions List in the amount of $1,000,000 or more.

The transaction contained in the attached certification involves the export of 9mm semi-automatic pistols to Denmark for the Ministry of Defense.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-076.

Dec 21, 2018

The Honorable Paul D. Ryan, Speaker of the House of Representatives.

Dear Mr. Speaker:

Pursuant to Section 36(c) of the Arms Export Control Act, the Department of State is transmitting certification of a proposed license for the export of defense articles, including technical data and defense services, in the amount of $25,000,000 or more.

The transaction contained in the attached certification involves the export of defense articles, including technical data and defense services, to the UK to support integration of the MK 41 vertical launch system (VLS) on three Type 26 Global Combat Ships for use by the UK's Ministry of Defence.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-079.

Feb 12, 2019

The Honorable Nancy Pelosi, Speaker of the House of Representatives.

Dear Madam Speaker:

Pursuant to Sections 36(c) and 36(d) of the Arms Export Control Act, the Department of State is transmitting certification of a license for the manufacture of significant military equipment abroad and export of defense articles, including technical data, and defense services in the amount of $100,000,000 or more.

The transaction contained in the attached certification involves the export of defense articles, including technical data, and defense services to Italy, Turkey, and the Netherlands for the manufacture of the F-35 Lightning II's Center Fuselage and related assemblies, subassemblies and components associated with all variants of the F-35 aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 17-076.

Mar 7, 2019

The Honorable Nancy Pelosi, Speaker of the House of Representatives.

Dear Madam Speaker:

Pursuant to Sections 36(c) and (d) of the Arms Export Control Act, the Department of State is transmitting certification of a proposed license for export for the manufacture of significant military equipment abroad and the export of defense articles, including technical data, and defense services in the amount of $50,000,000 or more.

The transaction contained in the attached certification involves the export of defense articles, including technical data, and defense services to Turkey to support the manufacture, sales, and maintenance training of all variants of Armored Combat Vehicle (ACV) Family of Vehicles, Sharpshooter and 40/50 Turrets, the remotely fired .50 caliber Cupola, and modernization kits and materials.

The U.S. Government is prepared to license the export of these items having taken into account political, military, economic, human rights, and arms control considerations.

More detailed information is contained in the formal certification, which though unclassified, contains business information submitted to the Department of State by the applicant, publication of which could cause competitive harm to the United States firm concerned.

Sincerely,

Mary Elizabeth Taylor, Assistant Secretary Bureau of Legislative Affairs.

Enclosure: Transmittal No. DDTC 17-141.

Mar 7, 2019

The Honorable Nancy Pelosi, Speaker of the House of Representatives.

Dear Madam Speaker:

Pursuant to Section 36(c) of the Arms Export Control Act, the Department of state is transmitting certification of a proposed license for the export of firearms, parts, and components abroad controlled under Category I of the United States Munitions List in the amount of $1,000,000 or more.

The transaction contained in the attached certification involves the export of automatic rifles to Oman.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-006.

Feb 12, 2019

The Honorable Nancy Pelosi, Speaker of the House of Representatives.

Dear Madam Speaker:

Pursuant to Sections 36(c) and (d) of the Arms Export Control Act, the Department of State is transmitting certification of a proposed license for the manufacture of significant military equipment abroad and the export of defense articles, including technical data, and defense services related of firearms parts, and components abroad controlled under Category I of the U.S. Munitions List in the amount of $1,000,000 or more.

The transaction contained in the attached certification involves the export of defense articles, including technical data, and defense services to Brazil to support the manufacture of components for sporting handguns and rifles.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-017.

Mar 15, 2019

The Honorable Nancy Pelosi, Speaker of the House of Representatives.

Dear Madam Speaker:

Pursuant to Section 36(c) of the Arms Export Control Act, please find enclosed the Department of State's certification of a proposed license for the export of firearms abroad controlled under Category I of the U.S. Munitions List in amount of $1,000,000 or more.

The transaction contained in the attached certification involves the export of .50 caliber machine guns to the Royal Oman Police.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-053.

Mar 15, 2019

The Honorable Nancy Pelosi, Speaker of the House of Representatives.

Dear Madam Speaker:

Pursuant to Section 36(c) of the Arms Export Control Act, please find enclosed the Department of State's certification of a proposed license for the export of defense articles, including technical data and defense services, in the amount of $100,000,000 or more.

The transaction contained in the attached certification involves the export of defense articles, including technical data and defense services, to the UK and Israel to support the development, integration, and support for F-135 propulsion system Organizational Level (O-Level) maintenance, field training, and services for the operation and sustainment of the F-35 Lightening II air systems operated by the Ministry of Defense in Israel.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-057.

Feb 14, 2019

The Honorable Nancy Pelosi, Speaker of the House of Representatives.

Dear Madam Speaker:

Pursuant to Section 36(c) of the Arms Export Control Act, the Department of State is transmitting certification of a proposed license amendment for the export of defense articles, including technical data and defense services, in the amount of $100,000,000 or more.

The transaction contained in the attached certification involves the export of defense articles, including technical data and defense services, to Norway, Italy, Japan and Denmark to support the manufacture, integration, installation, operation, training, testing, maintenance, and repair of auxiliary aerostructures and wing conventional control surfaces for the F-35 aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-068.

Feb 6, 2019

The Honorable Nancy Pelosi, Speaker of the House of Representatives.

Dear Madam Speaker:

Pursuant to Section 36(c) and (d) of the Arms Export Control Act, the Department of State is transmitting certification of a proposed license for the manufacture of significant military equipment and the export of firearms, parts, and components abroad controlled under Category I of the U.S. Munitions List in the amount of $1,000,000 or more.

The transaction contained in the attached certification involves the export of defense articles, including technical data and defense services, to Canada to support the manufacture, integration, installation, operation, training, and testing of small caliber weapons parts.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-078.

Mar 15, 2019

The Honorable Nancy Pelosi, Speaker of the House Representatives.

Dear Madam Speaker:

Pursuant to Section 36(c) of the Arms Export Control Act, please find enclosed the Department of State's certification of a proposed license for the export of firearms abroad controlled under Category I of the U.S. Munitions List in the amount of $1,000,000 or more.

The transaction contained in the attached certification involves the export of 5.56mm semi-automatic assault rifles to Oman for the Omani Ministry of Defense.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-087.

Mar 7, 2019

The Honorable Nancy Pelosi, Speaker of House of Representatives.

Dear Madam Speaker:

Pursuant to Section 36(c) of the Arms Export Control Act, the Department of State is transmitting certification of a proposed license for the export of defense articles, including technical data and defense services, in the amount of $100,000,000 or more.

The transaction contained in the attached certification involves the export of defense articles, including technical data and defense services, to support the manufacture, development, integration and support for Air-to-Air Pylons for the F-35 Lightning II Aircraft for end-use by the United States.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-088.

Mar 7, 2019

The Honorable Nancy Pelosi, Speaker of the House of Representatives.

Dear Madam Speaker:

Pursuant to Section 36(d) of the Arms Export Control Act, the Department of State is transmitting certification of a proposed license for the export of defense articles, including technical data and defense services, for the manufacture of significant military equipment abroad.

The transaction contained in the attached certification involves the export of defense articles, including technical data and defense services, to Japan to support the manufacture, integration, assembly, operation, training, testing, and maintenance of AN/ARC-164 (RT-1145 and RT-1504) UHF Receiver/Transmitters and related radio equipment.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-094.

Mar 15, 2019

The Honorable Nancy Pelosi, Speaker of House of Representatives.

Dear Madam Speaker:

Pursuant to Section 36(c) and (d) of the Arms Export Control Act, please find enclosed the Department of State's certification of a proposed license for the manufacture of significant military equipment abroad and the export of technical data and defense services in the amount of $1,000,000 or more.

The transaction contained in the attached certification involves the export of technical data and defense services to Israel and Germany to support the manufacture of firearm components, parts, accessories, barrels, blank receivers, and breech mechanisms.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-101.

Apr 3, 2019

The Honorable Nancy Pelosi, Speaker of the House of Representatives.

Dear Madam Speaker:

Pursuant to Section 36(c) of the Arms Export Control Act, I am transmitting certification of a proposed license for the export of defense articles, including technical data, and defense services in the amount of $100,000,000 or more.

The transaction contained in the attached certification involves the export of defense articles, including technical data, and defense services to Australia, Italy, Japan, and the Netherlands to support the manufacture of composite components and subassemblies of the F-35 Lightning II Aircraft.

The United States government is prepared to license the export of these items having taken into account political, military, economic, human rights, and arms control considerations.

More detailed information is contained in the formal certification, which though unclassified, contains business information submitted to the Department of State by the applicant, publication of which could cause competitive harm to the United States firm concerned.

Sincerely,

Mary Elizabeth Taylor,

Assistant Secretary Bureau of Legislative Affairs.

Enclosure: Transmittal No. DDTC 17-078.

Apr 3, 2019

The Honorable Nancy Pelosi, Speaker of the House of Representatives.

Dear Madam Speaker:

Pursuant to Section 36(c) of the Arms Export Control Act, please find enclosed a proposed license for the export of defense articles, including technical data, and defense services, in the amount of $100,000,000 or more.

The transaction contained in the attached certification involves the export of defense articles, including technical data defense services, to Denmark, Italy, Japan, and the Netherlands, to support the design, development and manufacture of composite components and subassemblies for the F-35 Aircraft Center Fuselage.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-001.

Apr 16, 2019

The Honorable Nancy Pelosi, Speaker of the House of Representatives.

Dear Madam Speaker:

Pursuant to Section 36(c) and (d) of the Arms Export Control Act, please find enclosed a certification of a proposed license for the manufacture of significant military equipment abroad and the export of defense articles, including technical data, and defense services, in the amount of $50,000,000 or more.

The transaction contained in the attached certification involves the export of defense articles, including technical data and defense services, to Australia, the UK, and India to support the manufacture, integration, installation, operation, training, testing, maintenance, and repair of Unmanned Aerial Systems in India.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Acting Assistant Secretary Bureau of Legislative Affairs.

Enclosure: Transmittal No. DDTC 18-009.

Apr 08, 2019

The Honorable Nancy Pelosi, Speaker of the House of Representatives.

Dear Madam Speaker:

Pursuant to Section 36(c) of the Arms Export Control Act, please find enclosed a proposed license for the export of defense articles, including technical data, and defense services in the amount of $100,000,000 or more.

The transaction contained in the attached certification involves the export of defense articles, including technical data, and defense services to Turkey, Poland, and the UK for the manufacture, inspection, test, delivery, and repair of machined parts, machined assemblies, and components for the H-60/S-70, H-53, and H-92 model helicopters.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-021.

Apr 16, 2019

The Honorable Nancy Pelosi, Speaker of the House of Representatives.

Dear Madam Speaker:

Pursuant to Section 36(c) and (d) of the Arms Export Control Act, please find enclosed a certification of a proposed license for the manufacture of significant military equipment in the form of firearms, parts, and components abroad controlled under Category I of the U.S. Munitions List in the amount of $1,000,000 or more.

The transaction contained in the attached certification involves the export of defense articles, including technical data and defense services, to Belgium, Canada, and Japan to support the manufacture, integration, installation, operation, training, testing, maintenance, and repair of sporting and recreational rifles.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-045.

Apr 17, 2019

The Honorable Nancy Pelosi, Speaker of the House of Representatives.

Dear Madam Speaker:

Pursuant to Section 36(c) and (d) of the Arms Export Control Act, please find enclosed a certification of a proposed license amendment for export for the manufacture of significant military equipment abroad and the export of defense articles, including technical data and defense services, in the amount of $50,000,000 or more.

The transaction contained in the attached certification involves the export of defense articles, including technical data and defense services, to the Republic of Korea and Thailand to support the manufacture, integration, installation, operation, training, testing, maintenance, and repair of the T-50TH aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-066.

Apr 08, 2019

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Qatar to support manufacture of the fusion rifle system/target illuminator system.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-067.

Apr 29, 2019

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Italy to support manufacture of Chemical Agent Resistant Coatings (CARC).

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor,

Assistant Secretary Bureau of Legislative Affairs.

Enclosure: Transmittal No. DDTC 18-069.

Apr 11, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of rifles and rifle conversion kits to Denmark and Sweden for commercial resale.

The U.S government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-075.

Apr 01, 2019

The Honorable Nancy Pelosi, Speaker of the House of Representatives.

Dear Madam Speaker:

Pursuant to Section 36(c) of the Arms Export Control Act, The Department of the State is transmitting certification of a proposed license for the export of defense articles, including technical data and defense services, in the amount of $100,000,000 or more.

The transaction contained in the attached certification involves the export of defense articles, including technical data and defense services, to the UK and Spain to support the production of the U.S. Army's Guided Multiple Launch Rocket System (GMLRS) weapon systems for use by the U.S. Army.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-081

Apr 16, 2019

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Taiwan to support the manufacture, development, integration, and support for F100 engine parts and components for end-use by the United States.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-082

Apr 25, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export of rifles and submachine guns to Thailand for end use by the Royal Thai Police.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-085.

Apr 16, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Denmark to support the manufacture, development, integration, and support for Air-to-Ground Pylons for the F-35 Lightning II Aircraft for end-use by the United States.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-089.

Apr 08, 2019

The Honorable Nancy Pelosi, Speaker of the House of Representatives.

Dear Madam Speaker:

Pursuant to Section 36(c) of the Arms Export Control Act, please find enclosed a certification of a proposed license for the export of firearms and components abroad controlled under Category I of the U.S. Munitions List in the amount of $1,000,000 or more.

The transaction contained in the attached certification involves the export of 7.62mm rifles and suppressors to the Philippines for end use by the Department of National Defense.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-092.

Jun 10, 2019

The Honorable Nancy Pelosi, Speaker of the House of Representatives.

Dear Madam Speaker:

Pursuant to Section 36(c) and (d) of the Arms Export Control Act, please find enclosed a certification of a proposed license for the manufacture of significant military equipment abroad and the export of defense articles, including technical data and defense services, in the amount of $50,000,000 or more.

The transaction contained in the attached certification involves the export of defense articles, including technical data and defense services, to the Republic of Korea and Singapore to support the manufacture, integration, installation, operation, training, testing, maintenance, and repair of the F-15 Wide Field of View (WFOV) Heads-up Display (HUD).

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-100.

Jun 14, 2019

The Honorable Nancy Pelosi, Speaker of the House of Representatives.

Dear Madam Speaker:

Pursuant to Sections 36(c) and (d) of the Arms Export Control Act, please find enclosed a certification of a proposed license amendment for the manufacture of significant military equipment abroad and the export of defense articles, including technical data and defense services, in the amount of $100,000,000 or more.

The transaction contained in the attached certification involves the export of defense articles, including technical data and defense services, to Italy to support the installation, integration, modification, maintenance, and repair for F-35 Advanced Rail Launchers.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-104.

Jun 14, 2019.

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to France, Germany, Switzerland, and the UK to support the testing, installation, interfacing, and training in operation and intermediate level of maintenance of the Ammunition Handling System for the UK's Specialist Vehicle Program.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-105.

Apr 16, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Jamaica of 5.56mm automatic rifles, barrels and upper receivers for use by the Jamaican Defense Forces.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-106.

Jun 14, 2019

The Honorable Nancy Pelosi, Speaker of the House of Representatives.

Dear Madam Speaker:

Pursuant to Section 36(c) of the Arms Export Control Act, please find enclosed a certification of a proposed license amendment for the export of defense articles, including technical data, and defense services in the amount of $100,000,000 or more.

The transaction contained in the attached certification involves the export of defense articles, including technical data, and defense services to the UK to support the design, development, engineering, production, assembly, testing, repair, rework, maintenance, modification, operation, and processing of components and parts for integration into the TOW Missile System.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-107.

Jun 24, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK to support the maintenance, repair, and overhaul of the F135 propulsion system powering the F35 Lightning II aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-108.

Jun 14, 2019

The Honorable Nancy Pelosi, Speaker of the House of Representatives.

Dear Madam Speaker:

Pursuant to Section 36(c) of the Arms Export Control Act, please find enclosed a certification of a proposed license amendment for the export of defense articles, including technical data and defense services, in the amount of $100,000,000 or more. The transaction contained in the attached certification involves the export of defense articles, including technical data and defense services, to Israel to support the qualification, modification, test, repair, assembly, manufacture, and production of components and parts for integration into the Tamir Interceptor (a missile) used in the Iron Dome program.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 18-113.

Apr 25, 2019

The Honorable Nancy Pelosi, Speaker of the House of Representatives.

Dear Madam Speaker:

Pursuant to Section 36(c) of the Arms Export Control Act, please find a certification of a proposed license amendment for the export of defense articles, including technical data and defense services, in the amount of $100,000,000 or more.

The transaction contained in the attached certification involves the export of defense articles, including technical data and defense services, to the UK to support manufacture of Harpoon missile canisters, capsules, certification and training vehicles, inert test vehicles, and discharge verification rounds for the Harpoon Weapon System.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-003.

Jun 14, 2019

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Germany and the UK to support the design, development, production, manufacture, assembly, operation, repair, testing, maintenance, and modification to develop P200-P400 series gas turbine engines.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-006.

Jun 10, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK to support the manufacture, design, assembly, qualification, test, repair, and maintenance of the F-35 electrical power management system.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-007.

May 02, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export to Australia of M134D 7.62mm machineguns.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-009.

Jun 27, 2019

The Honorable Nancy Pelosi, Speaker of the House of Representatives.

Dear Madam Speaker:

Pursuant to Sections 36(c) and (d) of the Arms Export Control Act, please find enclosed a certification of a proposed license for the export for the manufacture of significant military equipment abroad and the export of defense articles, including technical data and defense services, abroad controlled under Category I of the U.S. Munitions List in the amount of $1,000,000 or more.

The transaction contained in the attached certification involves the export of defense articles, including technical data and defense services, to Israel to support the development and manufacture of component parts of pistols and rifles.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-011.

Jun 11, 2019

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to Japan to support the operation, installation, provisioning of organizational and intermediate level maintenance, and repairs of the MK15 Phalanx Close-In Weapon System Block 0-1B Baseline 2 and SeaRAM Weapon System Defense Articles.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-014.

Jun 13, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Japan to support the transfer, modification, maintenance, and repair for F135 propulsion system for the F-35 Lightning II for use by the Government of Japan.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-015.

Jun 27, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of 7.62mm automatic rifles and parts to India for the Indian Armed Forces.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-016.

Jun 14, 2019

The Honorable Nancy Pelosi, Speaker of the House of Representatives.

Dear Madam Speaker:

Pursuant to Section 36(c) of the Arms Export Control Act, please find enclosed a certification of a proposed license amendment for the export of defense articles, including technical data and defense services, in the amount of $25,000,000 or more.

The transaction contained in the attached certification involves the export of defense articles, including technical data and defense services, to Denmark to support the integration, installation, operation, training, testing, maintenance, and repair of the Joint Direct Attack Munition (JDAM), Small Diameter Bomb, and Laser Small Diameter Bomb onto the F-16 and F-35 aircraft.

The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosure: Transmittal No. DDTC 19-017.

Jun 12, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export to the Netherlands of 7.62mm machine guns and associated barrel assemblies. The U.S. government is prepared to license the export of these items having taken into account political, military, economic, human rights, and arms control considerations.

More detailed information is contained in the formal certification, which though unclassified, contains business information submitted to the Department of State by the applicant, publication of which could cause competitive harm to the U.S. firm concerned.

Sincerely,

Mary Elizabeth Taylor, Assistant Secretary Bureau of Legislative Affairs.

Enclosed: Transmittal No. DDTC 19020.

UNCLASSIFIED

May 24, 2019

DETERMINATION UNDER THE ARMS EXPORT CONTROL ACT

SUBJECT: Emergency Arms Sales to Saudi Arabia, the United Arab Emirates, and Jordan

Pursuant to sections 36(b)(1), 36(c)(2), and 36(d)(2) of the Arms Export Control Act, 22 U.S.C. 2776, I hereby state that an emergency exists which requires the immediate sale of the following foreign military sales and direct commercial sales cases, including any further amendments specific to the cost, quantity, or requirements of these cases, in the national security interest of the United States:

For the Kingdom of Saudi Arabia:

• F-15 Support

• Sale and Co-production of Paveway Precision Guided Munitions

• Aircraft Maintenance Support

• Aurora Bomb Fuzing System

• 120mm M933 A1 Mortar Bombs

• F110 Engines for F-15s

• F/A-18 Panel Manufacture in Saudi Arabia for other end-users

• Advising and support of Ministry of Defense reform

• Continuation of follow-on logistics support and services for Royal Saudi Air Force, including Tactical Air Surveillance System support

For the United Arab Emirates:

• AH-64 Equipment

• APKWS Laser-guided Rockets

• Javelin Anti-Tank Missiles

• Paveway Precision Guided Munitions and Maverick Missile Support

• RQ-21 Blackjack UAS

• M107A1 .50 caliber rifles

• FMU-152A/B Programmable Bomb Fuse

• Patriot Guidance Enhanced Missile—Tactical Ballistic Missile

• U.S. Marine Corps training of UAE Presidential Guard

• F-16 engine parts

• Amendment to previously Congressionally notified case for ScanEagle and Integrator Unmanned Aerial Systems

For Jordan:

• Transfer of Paveway II Precision Guided Munitions from the United Arab Emirates

This determination shall be published in the Federal Register and along with the accompanying Memorandum of Justification shall be transmitted to Congress.

May 24, 2019

The Honorable Michael R. Pence, President of the Senate.

Dear Mr. President:

Pursuant to Section 36(c) of the Arms Export Control Act, please find enclosed a certification of a proposed license amendment for the export of defense articles, including technical data, and defense services, in the amount of $50,000,000 or more. Furthermore, pursuant to section 36(c)(2), I have determined that an emergency exists which requires the proposed sale in the national security interest of the United States, and this, waives the congressional review requirements. As required by law, a justification for my determination is attached.

The transaction contained in the attached certification involves the export of defense articles, including technical data, and defense services to the UAE, France and the UK to support the integration, installation, operation, training, testing, maintenance, and repair of the Maverick AGM-65 Weapons System and the Paveway II, Paveway III, Enhanced Paveway II and Enhanced Paveway III Weapons Systems.

The U.S. government is licensing the export of these items having taken into account political, military, economic, human rights, and arms control considerations.

More detailed information is contained in the formal certification, which though unclassified, contains business information submitted to the Department of State by the applicant, publication of which could cause competitive harm to the United States firm concerned.

Sincerely,

Michael R. Pompeo, Bureau of Legislative Affairs.

Enclosure: Transmittal No. DDTC 17-079 Memorandum of Justification.

May 24, 2019

The Honorable Michael R. Pence, President of the Senate.

Dear Mr. President:

Pursuant to Section 36(c) and (d) of the Arms Export Control Act, please find enclosed a certification of a proposed amendment for the manufacture of significant military equipment abroad and the export of defense articles, including technical data, and defense services in the amount of $50,000,000 or more. Furthermore, I have determined that an emergency exists which requires the proposed sale in the national in the national security interest of the United States, and thus, waives the congressional review requirements. As required by law, a justification for my determination is attached.

The transaction contained in the attached certification involves the export of defense articles, including technical data, and defense services to Saudi Arabia, UK, Spain, and Italy to support the coproduction, manufacture, assembly, development, integration, installation, operation, testing, maintenance, repair, and demilitarization of the Paveway and Enhanced Paveway Weapon System for the Royal Saudi Air Force F-15, Tornado, and Eurofighter Typhoon aircraft.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 17-094 Memorandum of Justification.

May 24, 2019

The Honorable Michael R. Pence, President of the Senate.

Dear Mr. President:

Pursuant to Section 36(c) of the Arms Export Control Act, please find enclosed a certification of a proposed license for the export of defense articles, including technical data, and defense services, in the amount of $50,000,000 or more. Furthermore, pursuant to section 36(c)(2), I have determined that an emergency exists which requires the proposed sale in the national security interest of the United States, and thus, waives the congressional review requirements. As required by law, a justification for my determination is attached.

The transaction contained in the attached certification involves the export of defense articles, including technical data and defense services, to the UK for the manufacture of the Aurora Fuzing System for the Paveway IV Precision Guided Bomb Program for end use by the UK Ministry of Defense and the Royal Saudi Air Force.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 17-112 Memorandum of Justification.

May 24, 2019

The Honorable Michael R. Pence, President of the Senate.

Dear Mr. President:

Pursuant to Section 36(d) of the Arms Export Control Act, please find enclosed a certification of a proposed license for the retransfer of defense articles in the amount of $50,000,000 or more. Furthermore, pursuant to section 3(d)(2), I have determined that an emergency exists which requires that proposed sale in the national security interest of the United States, and, thus, waives the congressional review requirements. As required by law, a justification for my determination is attached.

The transaction contained in the attached certification involves the retransfer of Paveway II laser guided bombs to Jordan.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 17-126 Memorandum of Justification.

May 24, 2019

The Honorable Michael R. Pence, President of the Senate.

Dear Mr. President:

Pursuant to Section 36(c) of the Arms Export Control Act, please find enclosed a certification of a proposed license for the export of technical data and defense services in the amount of $50,000,000 or more. Furthermore, pursuant to section 36(c)(2), I have determined that an emergency exists which requires the proposed sale in the national security interest of the United States, and this, waives the congressional review requirement. As required by law, a justification for me determination is attached.

The transaction contained in the attached certification involves the export of technical data, and defense services to Saudi Arabia to provide technically qualified personnel to advise and assist the Royal Saudi Air Force (RSAF) in maintenance and training for the RSAF F-15 fleet of aircraft.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 17-128 Memorandum of Justification.

May 24, 2019

The Honorable Michael R. Pence, President of the Senate.

Dear Mr. President:

Pursuant to Section 36(c) of the Arms Export Control Act, please find enclosed a certification of a proposed license for the export of defense articles, including technical data and defense services, in the amount of $50,000,000 or more. Furthermore, pursuant to section 36(c)(2), I have determined that an emergency exists which requires the proposed sale in the national security interest of the United States, and thus, waives the congressional review requirements. As required by law, a justification for my determination is attached.

The transaction contained in the attached certification involves the export of defense articles, including technical data, and defense services, to the UAE to support the integration of the FMU-152A/B Joint Programmable Bomb Fuze system into the UAE Armed Forces General Headquarters' fleet of aircraft and associated weapons.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-013 Memorandum of Justification.

May 24, 2019

The Honorable Michael R. Pence, President of the Senate.

Dear Mr. President:

Pursuant to Section 36(c) of the Arms Export Control Act, please find enclosed a certification of a proposed license for the export of defense articles, including technical data, defense services, in the amount of $50,000,000 or more. Furthermore, pursuant to section 36(c)(2), I will have determined that an emergency exists which requires the proposed sale in the national security interest of the United States, and, thus, waives the congressional review requirements. As required by law a justification for my determination is attached.

The transaction contained in the attached certification involves the export of defense articles, defense services, and technical data to Saudi Arabia to support the performance of maintenance and repair services of F110 engines for the Kingdom of Saudi Arabia Ministry of Defense.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-029 Memorandum of Justification.

May 24, 2019

The Honorable Michael R. Pence, President of the Senate.

Dear Mr. President:

Pursuant to Section 36(c) of the Arms Export Control Act, please find enclosed a certification of a proposed license for the export of firearms abroad controlled under Category I of the U.S. Munitions List in amount of $1,000,000 or more. Furthermore, pursuant to section 36(c)(2), I have determined that an emergency exists which requires the proposed sale in the national security interest of the United States, and, thus, waives the congressional review requirements. As required by law, a justification for my determination is attached.

The transaction contained in the attached certification involves the export of M107A1, .50 caliber semi-automatic rifles and sound suppressors to the UAE for end use by the General Headquarters, UAE Armed Forces.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-030 Memorandum of Justification.

May 24, 2019

The Honorable Michael R. Pence, President to the Senate.

Dear Mr. President:

Pursuant to Section 36(c) of the Arms Export Control Act, please find enclosed a certification of a proposed license for the export of defense articles in the amount of $50,000,000 or more. Furthermore, pursuant to section 36(c)(2), I have determined that an emergency exists which requires the proposed sale in the national security interest of the United States, and thus, waives the congressional review requirements. As required by law, a justification for my determination is attached.

The transaction contained in the attached certification involves the export of 120mm mortar bombs to the Saudi Arabian Royal Land Forces.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-050 Memorandum of Justification.

May 24, 2019

The Honorable Michael R. Pence, President of the Senate.

Dear Mr. President:

Pursuant to Section 36(c) of the Arms Export Control Act, please find enclosed a certification of a proposed license amendment for the export of defense articles, including technical data and defense services, in the amount of $50,000,000 or more. Furthermore, pursuant to section 36(c)(2), I have determined that an emergency exists which requires the proposed sale in the national security interest of the United States, and, thus, waives the congressional review requirements. As required by law, a justification for my determination is attached.

The transaction contained in the attached certification involves the export of defense articles, including technical data and defense services, to Australia, the UK, and the UAE to support the marketing, sale, and on-going support of Unmanned Aerial Systems and support for future Intelligence, Surveillance and Reconnaissance (ISR) requirements for the UAE Armed Forces.

The U.S. government is prepared to license the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-080 Memorandum of Justification.

May 24, 2019

The Honorable Michael R. Pence, President of the Senate.

Dear Mr. President:

Pursuant to Section 36(c) of the Arms Export Control Act, please find enclosed a certification of a proposed license amendment for the export of defense articles, including technical data and defense services, in the amount of $50,000,000 or more. Furthermore, pursuant to section 36(c)(2), I have determined that an emergency exists which requires the proposed sale in the national security interest of the United States, and, thus, waives the congressional review requirements. As required by law, a justification for my determination is attached.

The transaction contained in the attached certification involves the export of defense articles, including technical data and defense services, to support the installation, integration, modification, maintenance, and repair for F110-GE-132 gas turbine engines for use in F-16 Aircraft by the UAE.

The U.S. government is prepared to license the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-103 Memorandum of Justification.

May 24, 2019

The Honorable Michael R. Pence, President of the Senate.

Dear Mr. President:

Pursuant to Section 36(c) of the Arms Export Control Act, please find enclosed a certification of a proposed license for the export of defense articles, including technical data and defense services, in the amount of $50,000,000 or more. Furthermore, pursuant to section 36(c)(2), I have determined that an emergency exists which requires the proposed sale in the national security interest of the United States, and, thus, waives the congressional review requirements. As required by law, a justification for my determination is attached.

The transaction contained in the attached certification involves the export of defense articles, including technical data and defense services, to India, Saudi Arabia, Israel and the Republic of Korea to support the manufacture, production, test, inspection, modification, enhancement, rework, and repair of F/A18E/F and derivative series aircraft panels.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-109 Memorandum of Justification.

May 24, 2019

The Honorable Michael R. Pence, President of the Senate.

Dear Mr. President:

Pursuant to Section 36(c) of the Arms Export Control Act, please find enclosed a certification of a proposed license for the export of technical data and defense services in the amount of $50,000,000 or more. Furthermore, pursuant to section 36(c)(2), I have determined that an emergency exists which requires the proposed sale in the national security interest of the United States, and thus, waives the congressional review requirements. As required by law, a justification for determination is attached.

The transaction contained in the attached certification involves the export of technical data and defense services to Saudi Arabia and the UAE to support the Kingdom of Saudi Arabia Ministry of Defense Transformation Project.

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 18-110. Memorandum of Justification.

May 24, 2019

The Honorable Michael R. Pence, President of the Senate.

Dear Mr. President:

Pursuant to Section 36(c) of the Arms Export Control Act, please find enclosed a certification of a proposed license for the export of defense articles, including technical data and defense services, in the amount of $50,000,000 or more. Furthermore, pursuant to section 36(c)(2), I have determined that an emergency exists which requires the proposed sale in the national security interest of the United Sates, and, thus, waives the congressional review requirements. As required by law, a justification for my determination is attached.

The transaction contained in the attached certification involves the export of defense articles, including technical data and defense services, to the UAE and the UK to support the preparation, shipment, delivery, and acceptance of the Guidance Enhanced Missiles (GEM-T).

The U.S. government is licensing the export of these items having taken into account political, military, economic, human rights, and arms control considerations.

More detailed information is contained in the formal certification, which though unclassified, contains business information submitted to the Department of State by the applicant, publication of which could cause competitive harm to the U.S. firm concerned.

Sincerely,

Michael R. Pompeo

Enclosure: Transmittal No. DDTC 19-001 Memorandum of Justification.

Paula C. Harrison,
Senior Management Analyst, Directorate of Defense Trade Controls, U.S. Department of State.

[FR Doc. 2019-25491 Filed 11-26-19; 8:45 am]

BILLING CODE 4710-25-P